DEPARTMENT OF LABOR

Mine Safety and Health Administration

[OMB Control No. 1219-0026]

Proposed Extension of Existing Information Collection; Ground Control for Surface Coal Mines and Surface Work Areas of Underground Coal Mines

AGENCY: Mine Safety and Health Administration, Labor.

ACTION: Request for public comments.

SUMMARY: The Department of Labor, as part of its continuing effort to reduce paperwork and respondent burden, conducts a pre-clearance consultation program to provide the general public and Federal agencies with an opportunity to comment on proposed and continuing collections of information in accordance with the Paperwork Reduction Act of 1995. This program helps to assure that requested data can be provided in the desired format, reporting burden (time and financial resources) is minimized, collection instruments are clearly understood, and the impact of collection requirements on respondents can be properly assessed. Currently, the Mine Safety and Health Administration is soliciting comments concerning the extension of the information collection for 30 CFR 77.1000-1. OMB last approved this information collection request on October 13, 2009. The OMB approval for this information collection expires on October 31, 2012.

DATES: All comments must be postmarked or received by midnight Eastern Time on July 2, 2012.

ADDRESSES: Comments concerning the information collection requirements of this notice must be clearly identified with “OMB 1219-0026” and sent to both the Office of Management and Budget (OMB) and the Mine Safety and Health Administration (MSHA). Comments to MSHA may be sent by any of the methods listed below.

• Federal E-Rulemaking Portal: http://www.regulations.gov. Follow the on-line instructions for submitting comments.

• Facsimile: 202-693-9441, include “OMB 1219-0026” in the subject line of the message.

• Regular Mail or Hand Delivery: MSHA, Office of Standards, Regulations, and Variances, 1100 Wilson Boulevard, Room 2350, Arlington, VA 22209-3939. For hand delivery, sign in at the receptionist's desk on the 21st floor.

Comments to OMB may be sent by mail addressed to the Office of Information and Regulatory Affairs, Office of Management and Budget, New Executive Office Building, 725 17th Street NW., Washington, DC 20503, Attn: Desk Officer for MSHA.

FOR FURTHER INFORMATION CONTACT: Greg Moxness, Chief, Economic Analysis Division, Office of Standards, Regulations, and Variances, MSHA, at moxness.greg@dol.gov (email); 202-693-9440 (voice); or 202-693-9441 (facsimile).

SUPPLEMENTARY INFORMATION:

I. Background

Section 103(a) of the Federal Mine Safety & Health Act of 1977 (30 U.S.C. 813(a)) (the Mine Act)) requires that frequent inspections and investigations in coal or other mines shall be made each year for the purposes of, among other things, gathering information with respect to mandatory health or safety standards and determining whether an imminent danger exists. Section 103(h) of the Mine Act requires that every operator of a coal or other mine establish and maintain records, make reports, and provide required information to the Secretary (30 U.S.C. 813(h)).

Each operator of a coal mine is required under 30 CFR 77.1000 to establish and follow a ground control plan that is consistent with prudent engineering design and which will ensure safe working conditions. The mine operator is required by 30 CFR 77.1000-1 to file the ground control plan under § 77.1000 for highwalls, pits and spoil banks with the appropriate District Manager. Each plan is reviewed by MSHA to ensure that highwalls, pits, and spoil banks are maintained in a safe condition through the use of sound engineering design.

This information collection addresses the recordkeeping associated with:

§ 77.1000-1 Filing of plan required by 77.1000—Highwalls, pits and spoil banks; plans.

II. Desired Focus of Comments

The Mine Safety and Health Administration (MSHA) is soliciting comments concerning the proposed extension of the information collection related to this safety standard on ground control plans for surface coal mines and surface work areas of underground coal mines. MSHA is particularly interested in comments that:

• Evaluate whether the collection of information is necessary for the proper performance of the functions of the agency, including whether the information has practical utility;

• Evaluate the accuracy of the MSHA's estimate of the burden of the collection of information, including the validity of the methodology and assumptions used;

• Suggest methods to enhance the quality, utility, and clarity of the information to be collected; and

• Address the use of appropriate automated, electronic, mechanical, or other technological collection techniques or other forms of information technology, e.g., permitting electronic submissions of responses, to minimize the burden of the collection of information on those who are to respond.

The public may examine publicly available documents, including the public comment version of the supporting statement, at MSHA, Office of Standards, Regulations, and Variances, 1100 Wilson Boulevard, Room 2350, Arlington, VA 22209-3939. OMB clearance requests are available on MSHA's Web site at http://www.msha.gov under “Rules & Regs” on the right side of the screen by selecting Information Collections Requests, Paperwork Reduction Act Supporting Statements.

The document will be available on MSHA's Web site for 60 days after the publication date of this notice. Comments submitted in writing or in electronic form will be made available for public inspection. Because comments will not be edited to remove any identifying or contact information, MSHA cautions the commenter against including any information in the submission that should not be publicly disclosed. Questions about the information collection requirements may be directed to the person listed in the FOR FURTHER INFORMATION CONTACT section of this notice.

III. Current Actions

The information obtained from mine operators is used by MSHA to evaluate each plan to ensure that highwalls, pits, and spoil banks are maintained in a safe condition through the use of sound engineering design to ensure the health and safety of miners. MSHA has updated the estimates with respect to the number of respondents and responses, as well as the total burden hours and burden costs supporting this information collection extension request.

Summary

Type of Review: Extension.

Agency: Mine Safety and Health Administration.

Title: Ground Control for Surface Coal Mines and Surface Work Areas of Underground Coal Mines.

OMB Number: 1219-0026.

Affected Public: Business or other for-profit.

Cite/Reference/Form/etc: 30 CFR 77.1000-1.

Total Number of Respondents: 844.

Frequency: Various.

Total Number of Responses: 844.

Total Burden Hours: 5,840 hours.

Total Annual Cost Burden: $2,844.

Comments submitted in response to this notice will be summarized and included in the request for Office of Management and Budget approval of the information collection request; they will also become a matter of public record.

Authority: 44 U.S.C. 3506(c)(2)(A).

Dated: April 26, 2012.
George F. Triebsch,
Certifying Officer.

[FR Doc. 2012-10523 Filed 5-1-12; 8:45 am]

BILLING CODE 4510-43-P